ENVIRONMENTAL PROTECTION AGENCY

40 CFR Part 60

[OAR-2002-0053, FRL-7504-8]

Standards of Performance for Stationary Gas Turbines

AGENCY: Environmental Protection Agency (EPA).

ACTION: Proposed rule; extension of public comment period.

SUMMARY: On April 14, 2003, the EPA published a direct final rule to amend the standards of performance for stationary gas turbines, along with a parallel proposal to be used as a basis for final action in the event that we received any adverse comments on the direct final rule amendments. Since a public hearing was requested and held on May 14, 2003, we are announcing a 30-day extension of the public comment period.

DATES: Submit comments on or before June 13, 2003.

ADDRESSES: Comments. By U.S. Postal Service, send comments (in duplicate, if possible) to: EPA Docket Center (6102T), Attention Docket Number OAR-2002-0053, U.S. EPA, 1200 Pennsylvania Avenue, NW., Washington, DC 20460. In person or by courier, deliver comments (in duplicate, if possible) to: Air and Radiation Docket, Attention Docket Number OAR-2002-0053, U.S. EPA, 1301 Constitution Avenue, NW., Room B-108, Washington, DC 20460. We request that a separate copy also be sent to the contact person listed below (see FOR FURTHER INFORMATION CONTACT).

FOR FURTHER INFORMATION CONTACT: Mr. Jaime Pagán, Combustion Group, Emission Standards Division (C439-01), U.S. EPA, Research Triangle Park, North Carolina 27711; telephone number (919) 541-5340; facsimile number (919) 541-5450; electronic mail address pagan.jaime@epa.gov.

SUPPLEMENTARY INFORMATION: This document extends the public comment period established in the Federal Register issued on April 14, 2003, when EPA published a direct final rule (68 FR 17990) and a parallel proposal (68 FR 18003) amending the standards of performance for stationary gas turbines (40 CFR part 60, subpart GG). The amendments codified several alternative testing and monitoring procedures that have routinely been approved by EPA. The amendments also reflected changes in emission control technologies and turbine design since the original promulgation of the rule on September 10, 1979. b

We stated in the preamble to the direct final rule and parallel proposal that if we received significant material adverse comment on one or more distinct provisions of the direct final rule, we would publish a timely withdrawal of those distinct provisions in the Federal Register. The direct final rule stated that the deadline for submitting public comments was May 14, 2003, and that the effective date of the provisions would be May 29, 2003. The proposal also stated that if a public hearing was requested by April 24, 2003, the hearing would be held on May 14, 2003, at the New EPA Facility Complex in Research Triangle Park, North Carolina, at 10 a.m., and that the comment period would be extended until 30 days after the date of the public hearing. The EPA is hereby extending the comment period, which was set to end on May 14, 2003, to June 13, 2003.

To submit comments, or access the official public docket, please follow the detailed instructions as provided in the SUPPLEMENTARY INFORMATION section of the April 14, 2003 (68 FR 17990) Federal Register document. If you have questions, consult the person listed under FOR FURTHER INFORMATION CONTACT.

List of Subjects in 40 CFR Part 60

Environmental protection, Administrative practice and procedure, Air pollution control, Incorporation by reference, Intergovernmental relations, Nitrogen dioxide, Reporting and recordkeeping requirements, Sulfur oxides.

Dated: May 22, 2003.
Robert Brenner,
Acting Assistant Administrator for Office of Air and Radiation.

[FR Doc. 03-13416 Filed 5-27-03; 8:45 am]

BILLING CODE 6560-50-P